DEPARTMENT OF COMMERCE

Foreign-Trade Zones Board

[Docket 17-2002]

Foreign-Trade Zone 126, Reno, Nevada Request for Manufacturing Authority (Personal Computers)

An application has been submitted to the Foreign-Trade Zones Board (the Board) by the Economic Development Authority of Western Nevada, grantee of FTZ 126, requesting, on behalf of Dell Computer Corporation (Dell), authority to manufacture personal computers under zone procedures within Site 5 (725 Waltham Way, McCarran, Nevada) of FTZ 126 (Reno Customs port of entry). The application was submitted pursuant to the provisions of the Foreign-Trade Zones Act, as amended (19 U.S.C. 81a-81u), and the regulations of the Board (15 CFR part 400). It was formally filed on March 14, 2002.

Dell intends to share a 330,000 square-foot facility within FTZ 126 (110 employees projected) for the manufacture of personal computers, including servers and workstations. Dell is already authorized to manufacture such computers under zone procedures within Foreign-Trade Zone 78, Foreign Trade Zone 183, and Subzone 183A. This proposal involves an increase in the overall level of production under FTZ procedures for Dell.

The specific finished products for which Dell seeks authority to produce under FTZ procedures are various types of computers (desktop and notebook computers, workstations, and network servers) and data storage products. All of these products fall into HTSUS classifications which are duty free. The imported components for which Dell is seeking authority for inverted tariff benefits are cables, batteries, and carrying cases (leather only). Duty rates on these specific items range from 2.6% to 4.5% ad valorem, and components purchased from foreign sources currently comprise up to 48 percent of the finished product's value.

This application requests authority to allow Dell to conduct its activity under FTZ procedures, which it says would help improve the international competitiveness of Dell's Reno facility. According to Dell's application, the principal tangible benefit is that, on its domestic sales, the company would be able to choose the duty rate that applies to finished computers (duty free) for the foreign components noted above. The company also anticipates “procedural benefits” through the use of FTZ procedures.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th St. NW., Washington, DC 20005; or

2. Submissions via the U.S. Postal Service: Foreign-Trade-Zones Board, U.S. Department of Commerce, FCB—Suite 4100W, 1401 Constitution Ave. NW., Washington, DC 20230.

The closing period for their receipt is May 20, 2002. Rebuttal comments in response to material submitted during the foregoing period may be submitted during the subsequent 15-day period to June 4, 2002.

A copy of the application and accompanying exhibits will be available for public inspection at the Office of the Foreign-Trade Zones Board's Executive Secretary at address Number 1 listed above, and at the U.S. Department of Commerce Export Assistance Center, 1755 East Plumb Lane, Suite 152, Reno, NV 89502.

Dated: March 14, 2002.
Dennis Puccinelli,
Executive Secretary.

[FR Doc. 02-6871 Filed 3-20-02; 8:45 am]

BILLING CODE 3510-DS-P